DEPARTMENT OF AGRICULTURE

Rural Utilities Service

Basin Electric Power Cooperative, Inc.: Notice of Availability of a Final Environmental Impact Statement

AGENCY: Rural Utilities Service, USDA.

ACTION: Notice of Availability of a Final Environmental Impact Statement.

SUMMARY: The Rural Utilities Service (RUS), an agency within the U.S. Department of Agriculture (USDA), has prepared a Final Environmental Impact Statement (FEIS) to meet its responsibilities under the National Environmental Policy Act (NEPA), RUS's implementing regulations, 7 CFR part 1794, and other applicable environmental requirements related to providing financial assistance for Basin Electric Power Cooperative's (Basin Electric) proposed Antelope Valley Station (AVS) to Neset 345-kV Transmission Project (Project) in North Dakota. RUS will also use the FEIS to meet its responsibilities under Section 106 of the National Historic Preservation Act, 16 U.S.C. 470, and its implementing regulations, “Protection of Historic Properties” (36 CFR part 800).

The FEIS addresses the construction, operation, and maintenance of approximately 278 miles of new 345-kV single pole transmission line, a 230-kV single pole transmission line, and a double circuit 345/115-kV transmission line, 4 new substations and a switchyard, modifications to 4 existing substations, maintenance access roads, temporary construction roads, river crossings, temporary construction staging sites, and other facilities described previously in the Draft Environmental Impact Statement (DEIS) and Supplemental Draft Environmental Impact Statement (SDEIS). It also addresses comments received during the comment periods for the DEIS and the SDEIS. The overall project area encompasses parts of Dunn, McKenzie, Mercer, Mountrail, and Williams Counties in western North Dakota.

DATES: Written comments on the FEIS will be accepted 30 days following the publication of the Environmental Protection Agency's environmental impact statement receipt notice in the Federal Register. Notices of Availability of FEIS will be published in the local newspapers. After a 30-day public review period on the FEIS, RUS will prepare a Record of Decision for its respective action. The environmental review process is expected to conclude in the summer of 2014.

FOR FURTHER INFORMATION CONTACT: To receive copies of the FEIS or request information on the proposed Project, the FEIS process, and RUS financing, contact Mr. Dennis Rankin, Engineering and Environmental Staff, Rural Utilities Service, 1400 Independence Avenue SW., Stop 1571, Washington, DC 20250-1571, Telephone: (202) 720-1953, or email: dennis.rankin@wdc.usda.gov. Copies of the FEIS will be available for review in local libraries in the project area. Library locations will be published in the local papers.

SUPPLEMENTARY INFORMATION: Basin Electric is a regional wholesale electric generation and transmission cooperative owned and controlled by its member cooperatives. Basin Electric serves approximately 2.5 million customers covering 430,000 square miles in portions of nine states, including Colorado, Iowa, Minnesota, Montana, Nebraska, New Mexico, North Dakota, South Dakota, and Wyoming. Basin Electric has identified the need for additional electric transmission capacity in northwestern North Dakota to meet reliability and system stability requirements for the region resulting from increases in demand and load forecasts. Investigations and analyses conducted for the overall power delivery systems found that without improvements, the flow of power along existing lines may result in local line overloads, especially in the vicinity of Williston, North Dakota.

Basin Electric is proposing to construct, own and operate a new 345-kV transmission line and associated supporting infrastructure. The entire proposed Project will consist of constructing approximately 278 miles of new single circuit 345-kV, 230-kV and a double circuit 345/115-kV transmission line, the construction of 4 new substations and a switchyard, modifications to 4 existing substations, maintenance access roads, temporary construction roads, river crossings, temporary construction staging sites, and other facilities. The proposed Project would connect to the Integrated System, the high-voltage transmission grid in the upper Great Plains managed by Western, at several locations, including Western's Williston Substation.

The new 345-kV transmission line would start at the AVS Electric Generation Station located near Beulah, North Dakota, and extend west where it would connect with Basin Electric's existing Charlie Creek 345-kV Substation located near Grassy Butte. The line would then extend north where it would connect with Basin Electric's proposed Judson Substation near Williston and terminate at Basin Electric's newly proposed Tande Substation (Alternative C). Additional 230-kV transmission lines would be constructed between the new Judson 345-kV Substation and Western's existing Williston Substation, between a new 345/230/115-kV substation referred to as the Blue Substation and Western's existing 230-kV transmission line, and also between the Tande 345-kV Substation and Basin Electric's existing Neset 230-kV Substation located near Tioga, North Dakota.

Three transmission line alternatives, two transmission line variations in the Little Missouri National Grasslands (LMNG), and the No Action alternative were evaluated. Alternative C is described above; Alternative D is similar to Alternative C with the primary difference being the construction of a double-circuit 345 kV line north of Killdeer for 63 miles to the Blue Substation. Alternative E is similar to Alternative D with the primary difference being the construction of two parallel 345-kV transmission lines north of Killdeer rather than a double-circuit line. The variations across the LMNG include double-circuiting the 345-kV line with Western's existing 230 kV transmission Line. RUS has identified Alternative C as its preferred alternative because it best meets the purpose and need and minimizes or mitigates potential impacts.

RUS is authorized to make loans and loan guarantees that finance the construction of electric distribution, transmission, and generation facilities, including system improvements and replacements required to furnish and improve electric service in rural areas, as well as demand side management, energy conservation programs, and on-grid and off-grid renewable energy systems. RUS is responsible for completing the environmental review process in processing Basin Electric's application. RUS is serving as the lead Federal agency, as defined at 40 CFR 1501.5, for preparation of the FEIS. Based on an interconnection with the Western Area Power Administration's (Western) transmission system, Western has, in accordance with 40 CFR 1501.6, is serving as a cooperating agency for the environmental review of the proposed Project. Western is also serving as the lead Federal agency, in accordance with 36 CFR 800.2(a)(2), for the Section 106 review of cultural resources and the Endangered Species Act (ESA), Section 7 review for threatened and endangered species. The U.S. Forest Service (USFS) may issue a special use permit under the Federal Land Policy Management Act and is also serving as a cooperating agency. Separate Records of Decision (RODs) will be issued by Western and the USFS for their respective actions. It is anticipated that the RODS will be issued in July 2014.

The proposed Project is subject to the jurisdiction of the North Dakota Public Service Commission (NDPSC), which has regulatory authority for siting electrical transmission facilities within the State. Basin Electric has submitted applications to the NDPSC for Transmission Corridor and Route Permits. The NDPSC Permits would authorize Basin Electric to construct the proposed Project under North Dakota rules and regulations.

RUS has prepared the FEIS to analyze the impacts of its respective Federal actions and the proposed Project in accordance with the NEPA, as amended, Council on Environmental Quality (CEQ) Regulation for Implementing the Procedural Provisions of the NEPA (40 CFR parts 1500-1508), Department of Energy's NEPA Implementing Procedures (10 CFR part 1021), and RUS Environmental Policies and Procedures (7 CFR part 1794). RUS has already prepared and published a DEIS and a SDEIS which can both be found on the internet at http://www.rurdev.usda.gov/UWP-AVS-Neset.html.

Because the Project covers a large land area and access in some cases has been restricted, Section 106 review will be phased in accordance with 36 CFR 800.4(b)(2) and 800.5(a)(3). Accordingly, Western will complete Section 106 review using a Programmatic Agreement (PA) pursuant to 36 CFR 800.14(b)(1)(ii). RUS, at the request of Western, will manage the development and execution of the PA. RUS may issue the Record of Decision for the proposed Project once the PA has been executed.

This Notice of Availability also serves as a notice of proposed floodplain or wetland action. It is anticipated that there will be no effect on floodplains and wetlands by the proposed Project. The majority of the floodplains/wetlands crossed are associated with river and stream crossings and can be spanned. Some structures may be located in the floodplain of the Little Missouri River; however, no effects to the floodplain are anticipated.

James F. Elliott,
Acting Assistant Administrator, Electric Programs, USDA, Rural Utilities Service.

[FR Doc. 2014-12316 Filed 5-29-14; 8:45 am]

BILLING CODE P